GENERAL SERVICES ADMINISTRATION

[Notice-PBS-2021-05; Docket No. 2021-0002; Sequence No. 18]

Federal Management Regulation; Designation of Federal Building

AGENCY: Public Buildings Service (PBS), General Services Administration (GSA).

ACTION: Notice of a bulletin.

SUMMARY: The attached bulletin announces the designation of a Federal building.

DATES: This bulletin expires March 14, 2022. The building designation remains in effect until canceled or superseded by another bulletin.

FOR FURTHER INFORMATION CONTACT: General Services Administration, Public Buildings Service (PBS), Office of Portfolio Management, Attn: Chandra Kelley, 77 Forsyth Street SW, Atlanta, GA 30303, at 404-562-2763, or by email at chandra.kelley@gsa.gov.

SUPPLEMENTARY INFORMATION: This bulletin announces the designation of a Federal building. Public Law 115-39, dated June 6, 2017, designated the Federal Building located at 719 Church Street in Nashville, TN, as the “Fred D. Thompson Federal Building and United States Courthouse.” The name sequence was later modified by the Administrator of General Service on June 19, 2019 to the “Fred D. Thompson United States Courthouse and Federal Building” in accordance with the authority set forth at 40 U.S.C. 3102.

Robin Carnahan,
Administrator of General Services.

[FR Doc. 2021-20146 Filed 9-16-21; 8:45 am]

BILLING CODE 6820-Y1-P